DEPARTMENT OF COMMERCE

United States Patent and Trademark Office

[Docket No. PTO-C-2014-0017]

National Medal of Technology and Innovation Nomination Evaluation Committee Charter Renewal

AGENCY: United States Patent and Trademark Office, Commerce.

ACTION: Notice.

SUMMARY: The Chief Financial Officer and Assistant Secretary of Commerce for Administration, with the concurrence of the General Services Administration, renewed the Charter for the National Medal of Technology and Innovation Nomination Evaluation Committee on February 28, 2014.

DATES: The Charter for the National Medal of Technology and Innovation Nomination Evaluation Committee was renewed on February 28, 2014.

FOR FURTHER INFORMATION CONTACT: John Palafoutas, Program Manager, National Medal of Technology and Innovation Program, United States Patent and Trademark Office, 600 Dulany Street, Alexandria, VA 22314; telephone (571) 272-9821 or by electronic mail at nmti@uspto.gov. Information is also available at http://www.uspto.gov/about/nmti/index.jsp.

SUPPLEMENTARY INFORMATION: The Chief Financial Officer and Assistant Secretary of Commerce for Administration, with the concurrence of the General Services Administration, renewed the Charter for the National Medal of Technology and Innovation Nomination Evaluation Committee (NMTI Committee) on February 28, 2014. The NMTI Committee was established in accordance with the Federal Advisory Committee Act and provides advice to the Secretary of Commerce regarding recommendations of nominees for the National Medal of Technology and Innovation (Medal). The duties of the NMTI Committee are solely advisory in nature. Nominations for this Medal are solicited through an open, competitive, and nationwide call for nominations, and the NMTI Committee members are responsible for reviewing the nominations received. The NMTI Committee members are distinguished experts in the private and public sectors with experience in, or an understanding of, the promotion of technology, technological innovation, and/or the development of technological manpower. The NMTI Committee evaluates the nominees and forwards its recommendations, through the Under Secretary of Commerce for Intellectual Property, to the Secretary of Commerce who, in turn, forwards her recommendations for the Medal to the President.

Dated: March 12, 2014.
Michelle K. Lee,
Deputy Undersecretary of Commerce for Intellectual Property and Deputy Director of the United States Patent and Trademark Office.

[FR Doc. 2014-06015 Filed 3-18-14; 8:45 am]

BILLING CODE 3510-16-P